DEPARTMENT OF EDUCATION

Impact Aid Program

AGENCY: Department of Education.

ACTION: Notice reopening the application deadline date for Impact Aid fiscal year (FY) 2000 section 8002 grants and FY 2001 section 8003 grants.

SUMMARY: The Secretary reopens the deadline date for the submission of applications for Impact Aid FY 2000 section 8002 grants and FY 2001 section 8003 grants until February 29, 2000. Impact Aid regulations at 34 CFR 222.3 specify that the annual application deadline date is January 31. The Secretary takes this action to allow more time for the preparation and submission of applications by potential applicants adversely affected by severe inclement weather conditions throughout the Nation.

EFFECTIVE DATE: This notice reopening the application deadline date to February 29, 2000, for Impact Aid FY 2000 section 8002 grants and FY 2001 section 8003 grants is effective February 28, 2000.

DEADLINE DATE FOR TRANSMITTAL OF APPLICATIONS: February 29, 2000. The Secretary will also accept and approve for payment any otherwise approvable application from applicants that is received on or before the 60th calendar day after February 29, 2000, which is April 29 or its next business day, May 1, 2000. However, any applicant meeting the conditions of the preceding sentence will have its payment reduced by 10 percent of the amount it would have received had its application been filed by February 29, 2000.

DEADLINE DATE FOR INTERGOVERNMENTAL REVIEW: In accordance with 34 CFR 222.3(c), the deadline date for the transmittal of comments on the applications by State educational agencies is March 15, 2000.

FOR APPLICATIONS OR INFORMATION CONTACT: Impact Aid Program, U.S. Department of Education, 400 Maryland Avenue SW, Washington, DC 20202-6244. Telephone: (202) 260-3858. Individuals who use a telecommunications device for the deaf (TDD) may call the Federal Information Relay Service (FIRS) at 1-800-877-8339 between 8 a.m. and 8 p.m., Eastern time, Monday through Friday.

SUPPLEMENTARY INFORMATION: The Secretary reopens the deadline for potential applicants under sections 8002 and 8003 for Impact Aid assistance for the respective years specified. Section 8003 applicants should use a survey date for their student counts that is at least three days after the start of the 1999-2000 school year and before the reopened deadline of February 29, 2000.

Waiver of rulemaking. Currently, 34 CFR 222.3, which establishes the annual January 31 Impact Aid application deadline, is in effect. However, applicants may not have sufficient time to gather data and comply with that annual deadline because they were adversely affected by severe weather conditions. Because this amendment makes a procedural change for this year only as a result of unique circumstances for potential applicants, proposed rulemaking is not required under 5 U.S.C. 553(b)(A). In addition, the Secretary has determined under 5 U.S.C. 553(b)(B) that proposed rulemaking on this one-time suspension of the regulatory deadline date is impracticable, unnecessary, and contrary to the public interest.

Program Authority: 20 U.S.C. 7705.

Electronic Access to This Document

You may view this document, as well as all other Department of Education documents published in the Federal Register, in text or Adobe Portable Document Format (PDF) on the Internet at either of the following sites:

http://ocfo.ed.gov//fedreg.htm

http://www.ed.gov/news.html

To use the PDF you must have the Adobe Acrobat Reader Program with Search, which is available free at either of the previous sites. If you have questions about using the PDF, call the U.S. Government Printing Office (GPO), toll free at 1-888-293-6498; or in the Washington, DC area at (202) 512-1530.

Note: The official version of a document is the document published in the Federal Register. Free Internet access to the official edition of the Federal Register and the Code of Federal Regulations is available on GPO Access at: http://www.access.gpo.gov/nara/index.html.

(Catalog of Federal Domestic Assistance Number 84.041)
Dated: February 23, 2000.
Richard W. Riley,
Secretary of Education.

[FR Doc. 00-4760 Filed 2-25-00; 8:45 am]

BILLING CODE 4000-01-M